FEDERAL COMMUNICATIONS COMMISSION

Notice of Public Information Collection(s) Being Reviewed by the Federal Communications Commission, Comments Requested

March 6, 2009.

SUMMARY: As part of its continuing effort to reduce paperwork burden and as required by the Paperwork Reduction Act (PRA) of 1995 (44 U.S.C. 3501-3520), the Federal Communications Commission invites the general public and other Federal agencies to comment on the following information collection(s). Comments are requested concerning (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees. An agency may not conduct or sponsor a collection of information unless it displays a currently valid OMB control number. No person shall be subject to any penalty for failing to comply with a collection of information subject to the Paperwork Reduction Act that does not display a valid OMB control number.

DATES: Written PRA comments should be submitted on or before May 11, 2009. If you anticipate that you will be submitting comments, but find it difficult to do so within the period of time allowed by this notice, you should advise the contact listed below as soon as possible.

ADDRESSES: Submit your comments by e-mail to PRA@fcc.gov. Include in the e-mail the OMB control number of the collection or, if there is no OMB control number, the Title shown in the SUPPLEMENTARY INFORMATION section below. If you are unable to submit your comments by e-mail, contact the person listed below to make alternate arrangements.

FOR FURTHER INFORMATION CONTACT: For additional information about the information collection(s) or to obtain a copy of the collection, send an e-mail to PRA@fcc.gov and include the collection's OMB control number as shown in the SUPPLEMENTARY INFORMATION section below (or the title of the collection if there is no OMB control number), or call or contact Judith B.Herman at (202) 418-0214.

SUPPLEMENTARY INFORMATION: OMB Approval Number: 3060-0398.

Title: Sections 2.948 and 15.117(g)(2)—Equipment Authorization Measurement Standards.

Form No.: N/A.

Type of Review: Extension of a currently approved collection.

Respondents: Business or other for-profit entities.

Number of Respondents: 320.

Estimated Time per Response: 5 to 30 hours.

Frequency of Response: Recordkeeping requirement and every one and three years and on occasion reporting requirements.

Obligation To Respond: Required to obtain or retain benefits. Statutory authority for this information collection is Sections 4(i), 302, 303(c), 303(f), 303(g) and 303(r), and 309(a) of the Communications Act of 1934.

Total Annual Burden: 9,100 hours.

Total Annual Cost: None.

Privacy Impact Assessment: N.A.

Nature and Extent of Confidentiality: There is no need for confidentiality.

Needs and Uses: This collection will be submitted as an extension (no change in the reporting requirements) after this 60-day comment period to the Office of Management and Budget (OMB) in order to obtain the full three-year clearance. There is no change to the number of respondents/responses and estimated burden hours.

The Commission established uniform technical standards for various non-licensed equipment operating under the guidelines established in 47 CFR parts 15 and 19 of the Commission's Rules, which include personal computers, garage door openers, baby monitors, microwave ovens, etc. In order to ensure that technical standards are applied uniformly to non-licensed equipment, the Commission requires standardized measurement procedures and practices be followed:

(1) 47 CFR Part 2 of the Commission's rules require Electro-Magnetic Compatibility (EMC) testing facility that performs equipment testing in support of any request for equipment authorization to file a test site description, either with the Commission or with a Commission approved accrediting body;

(2) The test site description and the supporting information documents that the EMC testing facility complies with the testing standards used to make the measurements that support any request for equipment authorization; and

(3) In addition, the referenced 47 CFR part 15 rules require that equipment manufacturers file information concerning the testing of TV receivers, which tune to UHF channels, to show that the UHF channels provide approximately the same degree of tuning accuracy with approximately the same expenditure of time and effort.

The Commission or the accrediting body, e.g., EMC testing facility uses this information to ensure that data accompanying all requests for equipment authorization are valid, and that proper testing procedures are used. Testing ensures that potential interference to radio communications is controlled, and if necessary, the data may be used for investigating complaints of harmful interference, or for verifying the manufacturer's compliance with FCC rules.

Federal Communications Commission.
Marlene H. Dortch,
Secretary.

[FR Doc. E9-5400 Filed 3-11-09; 8:45 am]

BILLING CODE 6712-01-P